NATIONAL SCIENCE FOUNDATION

Notice of Permit Applications Received Under the Antarctic Conservation Act of 1978 (P.L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by November 26, 2003. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant: Permit Application No. 2004-017, Paul R. Renne, Berkeley Geochronology Center, 2455 Ridge Road, Berkeley, CA 94709.

Activity for Which Permit Is Requested

Enter Antarctic Specially Protected Area. The applicant proposes to collect rock samples from 6 locations within the Barwick and Balham Valleys (ASPA #123), as part of a larger strategy to provide a new quantitative tool providing data on the ages and evolution of surfaces. The rock samples are an essential part of an on-going project constraining the terrestrial production rate of the cosmogenic nuclide ³⁸ Ar. The McMurdo Dry Valleys are an ideal location for this type of study due to their very long exposure history (millions of years) combined with generally high elevations, low erosion and soil build up and high latitude: all factors which act to maximize cosmogenic nuclide production. Large scale flat surfaces with long exposure and high elevation within the Valleys, however, are scarce, and the flat plateau area formed by the Insel Range creates the most ideal surface for this type of sampling.

Location

Barwick and Balham Valleys (ASPA #123).

Dates

December 15, 2003 to January 30, 2004.

Nadene G. Kennedy,
Permit Officer, Office of Polar Programs.

[FR Doc. 03-27034 Filed 10-24-03; 8:45 am]

BILLING CODE 7555-01-M